ENVIRONMENTAL PROTECTION AGENCY

40 CFR Part 52

[EPA-R06-OAR-2017-0558; FRL-9988-27-Region 6]

Approval and Promulgation of State Implementation Plan, Louisiana; Attainment Demonstration for the St. Bernard Parish 2010 SO2 Primary National Ambient Air Quality Standard Nonattainment Area; Supplemental Notice of Proposed Rulemaking

AGENCY: Environmental Protection Agency (EPA).

ACTION: Supplemental notice of proposed rulemaking.

SUMMARY: In this supplemental notice of proposed rulemaking (SNPRM), the Environmental Protection Agency (EPA) is supplementing our proposed approval document, concerning the 2010 Sulfur Dioxide (SO2) Primary National Ambient Air Quality Standard (NAAQS) Nonattainment Area State Implementation Plan (SIP) revision for St. Bernard Parish. The EPA is also reopening the public comment period.

DATES: Written comments must be received on or before March 11, 2019.

ADDRESSES: Submit your comments, identified by Docket No. EPA-R06-OAR-2017-0558, at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact Mr. Robert Imhoff, (214) 665-7262, imhoff.robert@epa.gov. For the full EPA public comment policy, information about CBI or multimedia submissions, and general guidance on making effective comments, please visit https://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Mr. Robert Imhoff, (214) 665-7262; imhoff.robert@epa.gov. To inspect the hard copy materials, please schedule an appointment with Mr. Robert Imhoff.

SUPPLEMENTARY INFORMATION: Throughout this document, “we,” “us,” or “our” refer to EPA.

I. Background

On April 19, 2018, we published a proposed rulemaking action to approve the 2010 SO2 Primary NAAQS Nonattainment Area SIP revision for St. Bernard Parish, submitted by the State of Louisiana on November 9, 2017 and first supplemented on February 8, 2018.¹ The April 19, 2018 action proposed approval of the following CAA SIP elements: The attainment demonstration for the SO2 NAAQS and enforceable emissions limits, which included an Agreed Order on Consent (AOC) dated February 2, 2018 for the Rain CII Carbon, LLC. (Rain) facility; the reasonable further progress (RFP) plan; the reasonably available control measures (RACM) and reasonably available control technology (RACT) demonstration; the emission inventories; and the contingency measures. We also proposed to find that the State had demonstrated that its current Nonattainment New Source Review (NNSR) program covered the 2010 SO2 NAAQS; therefore, no revision to the SIP was required for the NNSR element.

¹ 83 FR 17349.

Comments on the proposal were required to be received by May 21, 2018. We received timely comments on the proposal, and as stated further below, we will address all comments received on the original proposal and on this supplemental action in our final action.²

² See our detailed discussion below that involves an evaluation of the supplemental information submitted by the LDEQ to EPA, partly in response to a public comment received on the original Federal Register action at 83 FR 17349, April 19, 2018 proposal.

II. Additional Information Submitted by Louisiana

After the close of the public comment period to the April 19, 2018 proposal, the Louisiana Department of Environmental Quality (LDEQ) submitted additional information to EPA on August 24, 2018.³ The additional information was submitted to us partly in response to a public comment received on the April 19, 2018 proposal by United States Senator from Louisiana, Bill Cassidy.⁴ In particular, Senator Cassidy submitted a comment letter that expressed concern that Rain would need to modify the February 2018 AOC entered between Rain and LDEQ as Rain did not believe that it could meet the limits set forth in the AOC without an additional extension to the compliance dates. In response to the comment, and in order to determine feasible emission limits for operations during transitions from exhaust flow through the hot stack to flow through the heat recovery boiler (referred to as the cold stack), LDEQ granted an extension of the deadline of the February 2018 AOC on April 27, 2018.⁵ LDEQ then issued a revised AOC on August 2, 2018. A model analysis was submitted to EPA on August 24, 2018 ⁶ to specifically demonstrate attainment of the NAAQS with the revised limits in the August 2018 AOC. EPA reviewed the new modeling analysis ⁷ and found some errors and omissions. In response, LDEQ submitted an updated modeling analysis on October 9, 2018.⁸ The AOC (signed by LDEQ and Rain August 2, 2018 and submitted to EPA on August 24, 2018), and the October 9, 2018 modeling files (also submitted by LDEQ) serve as a supplement to the November 9, 2017 and February 8, 2018 SIP submittals and are intended to address the public comment by incorporating certain additional AOC revisions (dated 8/2/2018) and supporting modeling into the 2010 SO2 Primary NAAQS Nonattainment Area SIP revision for St. Bernard Parish.

³ Letter from Secretary Brown to Anne Idsal, August 24, 2018, St. Bernard 2008 Sulfur Dioxide State Implementation Plan Supplemental Information and Executed Administrative Order on Consent (AOC) included in the docket for this action.

⁴ See the April 24, 2018 letter (in the docket to this action) from Senator Cassidy to EPA that referred to Rain's need to modify the February 2, 2018 AOC.

⁵ See April 27, 2018 Letter from Secretary Chuck Carr Brown to Rain in the docket for this action.

⁶ See Email from Vivian Aucoin to Michael Feldman September 28, 2018 in the docket to this action.

⁷ See Email Erik Snyder to Vivian Aucoin September 11, 2018 with attachment in the docket to this action “Chalmette_LDEQ_7_2018_Sources emissions verifications—R6.xlsx”.

⁸ See Email from Vennetta Hayes to Robert Imhoff October 9, 2018 in the docket to this action.

III. Public Comment

The EPA is reopening the public comment period. Comments are due March 11, 2019. The reopening of the comment period is strictly limited to additional supplemental information submitted by Louisiana on August 24, 2018 and October 9, 2018, and our additional analysis contained in this supplemental action and Supplemental Technical Support Document (TSD) now available in the docket. The supplemental information submitted to us seeks to address, in part, a public comment received on our original April 19, 2018 proposal action. The EPA will address all comments received on the original April 19, 2018 proposal and on this SNPRM in our final action.

IV. EPA's Evaluation and Analysis

We have reviewed the supplemental information submitted by LDEQ on August 24, 2018, and October 9, 2018 to further assist in our evaluation of the state's previous November 9, 2017 (as supplemented on February 8, 2018) SIP submittal and the public comment received by Senator Cassidy. As explained above, the revised AOC made changes in response to comments received regarding Rain's ability to meet transitional emissions limits. We have included our detailed evaluation and additional analysis of the revisions contained in the August 2, 2018 AOC and supporting modeling in a supplement to the TSD which may be found in the docket and titled as “Supplement to Technical Support Document for Approval and Promulgation of Implementation Plans; Louisiana; Attainment Demonstration for the St. Bernard Parish 2010 SO2 Primary National Ambient Air Quality Standard Nonattainment Area.” The TSD examines LDEQ's supplemental modeling reflecting the changes in Rain's AOC and the updates to the contributing sources inventory. See the TSD supplement for a complete discussion of our evaluation and analysis.

A. Emissions Data and Limits

There were two main changes in the emissions data and limits used in the October 9, 2018 supplemental modeling from the original SIP modeling in the proposal. The first is due to the revision of the AOC for Rain reflecting conditions consistent with the design throughput for the facility and the second is to reflect recent revisions to permits for the contributing sources. The August 2, 2018 AOC incorporated updated information from the facility regarding the emission rates, temperatures, and flowrates to be expected from the facility for the various operating scenarios. Since these parameters differed from those in the previous AOC, additional modeling to demonstrate attainment of the NAAQS was conducted. The August 2, 2018 AOC has a compliance date of August 2, 2018.

Table 1—Control Chart of the SO2 Emission Limits in Pounds per Hour for the Rain Cold and Hot Stacks
Stage | Cold stack conditions for stage as measured by CEMS | Cold stack SO2 limits pounds per hour (lb/hr) | Hot stack SO2 limits (lb/hr) and associated hot stack parameters
Cold Stack Standalone Low | During normal, steady state operations, and damper to EQT 0004 is closed, Stack flow rate ≥46,000 ACFM and <90,000 ACFM, Temperature ≥150 °F | 200 | 0 lb/hr, Hot Stack flow rate = 0.
Cold Stack Standalone Medium Low | During normal, steady state operations, and damper to EQT 0004 is closed, If Stack flow rate ≥90,000 ACFM and <120,000 ACFM, Temperature ≥210 °F | 380 | 0 lb/hr, Hot Stack flow rate = 0.
Cold Stack Standalone Medium High | During normal, steady state operations, and damper to EQT 0004 is closed, Stack flow rate ≥120,000 ACFM and <140,000 ACFM, Temperature ≥210 °F | 420 | 0 lb/hr, Hot Stack flow rate = 0.
Cold Stack Standalone High | During normal, steady state operations, and damper to EQT 0004 is closed, Stack flow rate ≥140,000 ACFM, Stack temperature ≥210 °F | 510 | 0 lb/hr, Hot Stack flow rate = 0.
1 | Stack flow rate is >0 ACFM and <45,000 ACFM or Temperature <60 °F | 4.5 | 1,600 lb/hr, Hot Stack flow rate ≥400,000 ACFM, Temperature ≥1,600 °F.
2 | Stack gas flow rate ≥45,000 ACFM and <60,000 ACFM, Temperature ≥110 °F | 49.5 | 1,400 lb/hr, Hot Stack flow rate ≥375,000 ACFM, Temperature ≥1,600 °F.
3 | Stack gas flow rate ≥60,000 ACFM and <85,000 ACFM, Temperature ≥150 °F | 90 | 1,200 lb/hr, Hot Stack flow rate ≥375,000 ACFM, Temperature ≥1,600 °F.
4 | Transition Stage 4: When the flue gas flow rate ≥85,000 ACFM and <110,000 ACFM: Temperature ≥160 °F | 108 | ≤1,000 lb/hr, Hot Stack flow rate ≥310,000 ACFM, Temperature ≥1,600 °F.
5 | Transition Stage 5: When the flue gas flow rate ≥110,000 ACFM and <140,000 ACFM: Temperature ≥210 °F | 171 | 900 lb/hr, Hot Stack flow rate ≥310,000 ACFM, Temperature ≥1,600 °F.
6 | Transition Stage 6: When the flue gas flow rate ≥140,000 ACFM: Temperature ≥210 °F | 189 | 800 lb/hr, Hot Stack flow rate ≥220,000 ACFM, Temperature ≥1,400 °F.
Hot Stack Standalone | Non-transition operations: When the damper to EQT 0003 is closed | 0 | 2,020 lb/hr.

The emission rates used in the previous modeling for contributing sources were accurate and complete at the time they were compiled in 2017. Because of subsequent permit modifications in 2018 for the Valero and Chalmette refineries, the do not accurately reflect current allowable emission rates. EPA and LDEQ consulted on updates to the original allowable rates for the contributing sources.⁹ LDEQ used the updated current allowable emission rates in their modeling. The revised contributing source inventory contained sources, not including Rain, totaling 4,435 tons per year compared to the previous inventory which contained 6,382 tons per year.

⁹ September 11, 2018 Email From: Snyder, Erik to Vivian. Aucoin with attachment “Chalmette_LDEQ_7_2018_Sources emissions verifications—R6.xlsx” in the docket for this action.

B. Summary of Results

LDEQ's October 2018 modeling analysis, including the revised August 2, 2018 AOC emission limits for the Rain facility, resulted in concentrations below the level of the 1-hour primary SO2 NAAQS. The EPA has reviewed Louisiana's supplemental modeling and agrees that Louisiana's supplemental materials, along with the new AOC limits (August 2, 2018), result in demonstrating attainment of the 1-hour SO2 primary NAAQS before the attainment deadline of October 4, 2018.

Table 2—Summary of EPA Model Results With Number of Operating Scenarios Modeled,
if Greater Than One
Operational status | Design value μg/m3
Cold Stack Normal Operations (Low) | 189.8
Cold Stack Normal Operations (Medium Low) | 189.8
Cold Stack Normal Operations (Medium High) | 183.9
Cold Stack Normal Operations (High) | 190.8
Hot Stack Normal Operations | 176.6
Transition (Six Scenarios) | 185.6
Rain Property | 160.5
Valero Property | 147.7
Chalmette Refinery Property | 130.3

The result of our evaluation and analysis of the supplemental information continues to support the proposed approval of the SIP revisions identified in the Federal Register at 83 FR 17349, April 19, 2018, proposal.

V. Supplemental Proposal Action

On April 19, 2018, EPA originally proposed to approve the 2010 SO2 Nonattainment Area SIP revision for St. Bernard Parish, as submitted by the State of Louisiana on November 9, 2017 and supplemented on February 8, 2018. In this supplemental proposal, EPA is proposing to approve LDEQ's August 24, 2018 and October 9, 2018 supplements to the November 9, 2017 SIP and February 8, 2018 submittals that were provided partly in response to a comment received on our April 19, 2018 proposal (83 FR 17349). Specifically, we are proposing to approve the August 2, 2018 AOC as a source-specific SIP revision that serves to replace the original February 2018 AOC. We propose to find that the supplemental October 9, 2018 modeling provides continued support for a proposed approval of the attainment demonstration that was originally submitted in November 2017. EPA solicits comments on this SNPRM, with respect to only the specific information raised in this supplemental proposal—that being (a) the modifications from the original modeling required for the supplemental October 9, 2018 modeling, i.e., the revised stack parameters and emissions for Rain and the contributing source inventory and (b) the revised August 2018 AOC. EPA is not reopening the comment period on any other aspect of the April 19, 2018 proposal, as there was an opportunity to comment provided at the time of that proposal on all other elements of the submittals and those elements remain unchanged from the original proposal. The purpose of this SNPRM is limited to an evaluation of LDEQ's August 24, 2018 submission of the AOC and supporting October 2018 modeling, as well as the supplement to the TSD, all of which are contained in the docket for this rulemaking. We are reopening the comment period until March 11, 2019. The scope of this supplemental document and the reopening of the comment period is strictly limited to only the supplemental information. The EPA will not respond to comments received during the reopened comment period outside the above-defined scope. This action will allow interested persons additional time to review the supplemental information to prepare and submit relevant comments. The EPA will address all comments received on the original proposal and on this supplemental action in our final action.

VI. Incorporation by Reference

In this action, we are proposing to include in a final rule regulatory text that includes incorporation by reference. In accordance with the requirements of 1 CFR 51.5, we are proposing to incorporate by reference revisions to the Louisiana source-specific requirements as described in the Proposed Action section above. We have made, and will continue to make, these documents generally available electronically through www.regulations.gov and in hard copy at the EPA Region 6 office (please contact Mr. Robert Imhoff for more information).

VII. Statutory and Executive Order Reviews

Under the Act, the Administrator is required to approve a SIP submission that complies with the provisions of the Act and applicable Federal regulations. 42 U.S.C. 7410(k); 40 CFR 52.02(a). Thus, in reviewing SIP submissions, EPA's role is to approve state choices, provided that they meet the criteria of the Act. Accordingly, this action merely proposes to approve state law as meeting Federal requirements and does not impose additional requirements beyond those imposed by state law. For that reason, this action:

• Is not a “significant regulatory action” subject to review by the Office of Management and Budget under Executive Order 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rulemaking does not have tribal implications and will not impose substantial direct costs on tribal governments or preempt tribal law as specified by Executive Order 13175 (65 FR 67249, November 9, 2000).

List of Subjects in 40 CFR Part 52

Environmental protection, Air pollution control, Incorporation by Reference, Intergovernmental relations, Reporting and recordkeeping requirements, Sulfur oxides.

Authority: 42 U.S.C. 7401 et seq.

Dated: December 20, 2018.
Anne Idsal,
Regional Administrator, Region 6.

[FR Doc. 2018-28171 Filed 2-7-19; 8:45 am]

BILLING CODE 6560-50-P